LIBRARY OF CONGRESS

U.S. Copyright Office

37 CFR Parts 201 and 202

[Docket No. 2017-8]

Secure Tests: Extension of Comment Period

AGENCY: U.S. Copyright Office, Library of Congress.

ACTION: Interim rule with request for comments; extension of comment period.

SUMMARY: The U.S. Copyright Office is extending the deadline for the submission of written comments in response to its June 12, 2017 and November 13, 2017 interim rules, regarding changes to the special procedure for examining secure tests, and the creation of a new group registration option for secure tests, respectively.

DATES: The comment period for the interim rules, published on June 12, 2017 (82 FR 26850), and November 13, 2017 (82 FR 52224), is extended. Comments must be made in writing and must be received in the U.S. Copyright Office no later than January 31, 2018.

ADDRESSES: For reasons of government efficiency, the Copyright Office is using the regulations.gov system for the submission and posting of public comments in this proceeding. All comments are therefore to be submitted electronically through regulations.gov. Specific instructions for submitting comments are available on the Copyright Office Web site at https://www.copyright.gov/rulemaking/securetests/. If electronic submission of comments is not feasible due to lack of access to a computer and/or the internet, please contact the Office for special instructions using the contact information below.

FOR FURTHER INFORMATION CONTACT: Robert J. Kasunic, Associate Register of Copyrights and Director of Registration Policy and Practice; Sarang Vijay Damle, General Counsel and Associate Register of Copyrights; Erik Bertin, Deputy Director of Registration Policy and Practice; or Abioye Ella Mosheim, Attorney-Advisor, by telephone at 202- 707-8040 or by email at rkas@loc.gov, sdam@loc.gov, ebertin@loc.gov, and abmo@loc.gov.

SUPPLEMENTARY INFORMATION: As detailed in a June 12, 2017 interim rule,¹ the U.S. Copyright Office memorialized its special procedures for examining secure tests. As detailed in a November 13, 2017 interim rule,² the Office established a new group registration option for secure test questions. The Office is extending the December 11, 2017 deadline for the submission of written comments to allow greater time for public comment following implementation of the November 13, 2017 interim rule.

¹ 82 FR 26850 (June 12, 2017).

² 82 FR 52224 (Nov. 13, 2017).

Dated: November 27, 2017.
Sarang V. Damle,
General Counsel and Associate Register of Copyrights.

[FR Doc. 2017-25859 Filed 11-30-17; 8:45 am]

BILLING CODE 1410-30-P